DEPARTMENT OF COMMERCE

National Oceanic and Atmospheric Administration

RIN 0648-XC188

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) Scientific and Statistical Committee (SSC) will hold a public meeting.

DATES: The meeting will be held on Thursday, September 13, 2012 beginning at 10 a.m.

ADDRESSES: The meeting will be held via webinar with a telephone-only connection option. Details on webinar registration and the telephone-only connection details are available at: http://www.mafmc.org.

Council address: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: The purpose of the meeting is (1) data and analyses which will form the basis for the 2013-16 ABC determination for spiny dogfish and (2) a request by the Council to clarify the SSC's 2012 ABC recommendation for butterfish. Information about accessing the webinar on September 13 is available on the Councils Web site at www.mafmc.org. A public listening station to allow public access to the webinar will be available at the Council offices located 800 N. State St., Suite 201, Dover, DE 19901.

Special Accommodations

The meeting is physically accessible to people with disabilities. Requests for sign language interpretation or other auxiliary aids should be directed to M. Jan Saunders at the Mid-Atlantic Council Office, (302) 526-5251, at least 5 days prior to the meeting date.

Dated: August 23, 2012.
William D. Chappell,
Acting Deputy Director, Office of Sustainable Fisheries, National Marine Fisheries Service.

[FR Doc. 2012-21223 Filed 8-27-12; 8:45 am]

BILLING CODE 3510-22-P